FARM CREDIT SYSTEM INSURANCE CORPORATION

Regular Meeting; Farm Credit System Insurance Corporation Board

AGENCY: Farm Credit System Insurance Corporation.

ACTION: Notice; regular meeting.

SUMMARY: Notice is hereby given, in accordance with the provisions of Article VI of the Bylaws of the Farm Credit System Insurance Corporation (FCSIC), of a forthcoming regular meeting of the Board of Directors of FCSIC.

DATES: January 28, 2021, at 10:00 a.m. EDT, until such time as the Board may conclude its business. Note: Because of the COVID-19 pandemic, we will conduct the board meeting virtually. If you would like to observe the open portion of the virtual meeting, see instructions below for board meeting visitors.

ADDRESSES: Because of the COVID-19 pandemic, we will conduct the board meeting virtually. If you would like to observe the open portion of the virtual meeting, see instructions in SUPPLEMENTARY INFORMATION for board meeting visitors.

FOR FURTHER INFORMATION CONTACT: Dale Aultman, Secretary to the Board of the Farm Credit System Insurance Corporation, (703) 883-4009. TTY is (703) 883-4056.

SUPPLEMENTARY INFORMATION: Instructions for attending the virtual meeting: Parts of this meeting of the Board will be open to the public, and parts will be closed. To observe the open portion of the virtual meeting, go to FCSIC.gov, select “News & Events,” then “Board Meetings.” There you will find a description of the meeting and “Instructions for board meeting visitors.” If you need assistance for accessibility reasons or if you have any questions, contact Dale Aultman, Secretary to the Farm Credit System Insurance Corporation Board, at (703) 883-4009. The matters to be considered at the meeting are as follows:

A. Approval of Minutes

• December 17, 2020

B. New Business

• Review of Insurance Premium Rates

• Policy Statement—Receivership and Conservatorship Counsel

• Policy Statement—Appraisals

• Policy Statement—Allowance for Insurance Fund Loss

C. Closed Session—Audit Committee

• CFO Report—List & Status of All Contracts

• Annual Report on Whistleblower Activity

Dated: January 19, 2021.
Dale Aultman,
Secretary, Farm Credit System Insurance Corporation.

[FR Doc. 2021-01495 Filed 1-22-21; 8:45 am]

BILLING CODE 6710-01-P